DEPARTMENT OF THE INTERIOR

National Park Service

[NPS-WASO-NAGPRA-NPS0039142; PPWOCRADN0-PCU00RP14.R50000]

Notice of Intended Repatriation: California Department of Transportation, Oakland, CA

AGENCY: National Park Service, Interior.

ACTION: Notice.

SUMMARY: In accordance with the Native American Graves Protection and Repatriation Act (NAGPRA), the California Department of Transportation (Caltrans) intends to repatriate certain cultural items that meet the definition of objects of cultural patrimony and that have a cultural affiliation with the Indian Tribes or Native Hawaiian organizations in this notice.

DATES: Repatriation of the cultural items in this notice may occur on or after January 6, 2025.

ADDRESSES: Lindsay Busse PQS Principal Investigator, Prehistoric Archaeology, California Department of Transportation, District 4, 111 Grand Avenue, Oakland, CA 94612, telephone (510) 847-1977, email lindsay.busse@dot.ca.gov and Althea Asaro, PQS Principal Investigator, Prehistoric Archaeology, California Department of Transportation, District 4, 111 Grand Avenue, Oakland, CA 94612, telephone (510) 847-2178, email althea.asaro@dot.ca.gov.

SUPPLEMENTARY INFORMATION: This notice is published as part of the National Park Service's administrative responsibilities under NAGPRA. The determinations in this notice are the sole responsibility of the Caltrans, and additional information on the determinations in this notice, including the results of consultation, can be found in the summary or related records. The National Park Service is not responsible for the determinations in this notice.

Abstract of Information Available

CA-SON-256 is located along Highway 1 in northern Sonoma County, and the collection is the result of a 2011 excavation in support of an encroachment permit. The collection was accessioned at Sonoma State University (SSU), under Caltrans control as Accession 2011-05 totaling 265 catalogue numbers.

All 265 catalogue numbers have been requested for repatriation because they have been identified as objects of cultural patrimony. The 265 catalogue numbers are shell, faunal bone, beads, ground stone, lithics, and historic-era and modern items. Based on the information available and the results of consultation, cultural affiliation is clearly identified by the information available about the objects of cultural patrimony described in this notice. There are no known/documented potentially hazardous substances used to treat any of the cultural items.

Determinations

Caltrans has determined that:

• The 265 catalogue numbers containing objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 6, 2025. If competing requests for repatriation are received, Caltrans must determine the most appropriate requestor prior to repatriation. Requests for joint repatriation of the cultural items are considered a single request and not competing requests. Caltrans is responsible for sending a copy of this notice to the Indian Tribes and Native Hawaiian organizations identified in this notice and to any other consulting parties.

Authority: Native American Graves Protection and Repatriation Act, 25 U.S.C. 3004 and the implementing regulations, 43 CFR 10.9.

Dated: November 22, 2024.
Melanie O'Brien,
Manager, National NAGPRA Program.

[FR Doc. 2024-28497 Filed 12-4-24; 8:45 am]

BILLING CODE 4312-52-P